DEPARTMENT OF LABOR

Employment and Training Administration

[TA-W-60,442]

Northern Hardwoods, South Range, MI; Notice of Termination of Investigation

Pursuant to Section 221 of the Trade Act of 1974, as amended, an investigation was initiated on November 15, 2006 in response to a petition filed by a company official on behalf of Jennifer Niemela of Northern Hardwoods, South Ridge, Michigan.

The company official explained that the worker is engaged in stamping wood components within the Dimension Plant of Northern Hardwoods, a subsidiary of Hardwood Lumber Manufacturing Incorporated, South Ridge, Michigan. All workers of the Dimension Plant are covered by a certification of eligibility to apply for worker adjustment assistance and alternative trade adjustment assistance under petition number TA-W-57,091, that does not expire until June 8, 2007.

Consequently, further investigation in this case would serve no purpose and the investigation under this petition has been terminated.

Signed at Washington, DC, this 7th day of December 2006.
Linda G. Poole,
Certifying Officer, Division of Trade Adjustment Assistance.

[FR Doc. E6-21257 Filed 12-13-06; 8:45 am]

BILLING CODE 4510-30-P